DEPARTMENT OF HEALTH AND HUMAN SERVICES

National Institutes of Health

Proposed Collection; 60-Day Comment Request; Special Volunteer and Guest Researcher Assignment, Office of the Director (OD)

SUMMARY: In compliance with the requirement of Section 3506(c) (2) (A) of the Paperwork Reduction Act of 1995, for opportunity for public comment on proposed data collection projects, the Office of Intramural Research (OIR), National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and for Further Information: To obtain a copy of the data collection plans and instruments, submit comments in writing, or request more information on the proposed project, contact: Mr. Larry Chloupek, Management Liaison Director, OIR, Office of the Director, NIH, 2 Center Drive MSC 0235, Bethesda, MD 20892-0235; or call non-toll-free number 301-594-3992; or email your request, including your address, to larry.chloupek@nih.gov. Formal requests for additional plans and instruments must be requested in writing.

DATES: Comment Due Date: Comments regarding this information collection are best assured of having their full effect if received within 60 days of the date of this publication.

Proposed Collection: Special Volunteer and Guest Researcher Assignment, 0925-0177—EXTENSION—Office of Intramural Research (OIR), National Institutes of Health (NIH).

Need and Use of Information Collection: Form Number NIH-590 is a single form completed by an NIH official for each Guest Researcher or Special Volunteer prior to his/her arrival at the NIH. The information on the form is necessary for the approving official to reach a decision on whether to allow a Guest Researcher to use NIH facilities or whether to accept volunteer services offered by a Special Volunteer. If the original assignment is extended, another form notating the extension is completed to update the file.

OMB approval is requested for 3 years. There are no costs to respondents other than their time. The total estimated annualized burden hours is 166.

Estimated Annualized Burden Hours
Type of respondents | Number of respondents | Frequency of response | Average time per response | Annual hour burden
Special Volunteers | 1,250 | 1 | 6/60 | 125
Guest Researchers | 410 | 1 | 6/60 | 41

Dated: March 25, 2014.
Lawrence A. Tabak,
Deputy Director, NIH, Office of the Director.

[FR Doc. 2014-07263 Filed 3-31-14; 8:45 am]

BILLING CODE 4140-01-P